DEPARTMENT OF DEFENSE

Department of the Army; Corps of Engineers

33 CFR Part 334

Disestablishment of Restricted Area for Pascagoula Naval Station, Pascagoula, MS

AGENCY: U.S. Army Corps of Engineers, DoD.

ACTION: Proposed rule.

SUMMARY: The U.S. Navy (USN) requested that the U.S. Army Corps of Engineers (Corps) disestablish the restricted area at the former Naval Station Pascagoula in Pascagoula, Mississippi. The restricted area was established on November 9, 1992. The purpose of the restricted area was to reduce safety hazards and security risks and protect persons and property from dangers encountered in the area. As a result of the 2005 Base Realignment and Closure Act, the Naval Station was closed on June 1, 2007, and the property transferred to the State of Mississippi. In the “Rules and Regulations” section of Federal Register, we are publishing the restricted area disestablishment as a direct final rule without prior proposal because we view this as a non-controversial adjustment to our restricted area regulations and anticipate no adverse comment. We have explained our reasons for this approval in the preamble to the direct final rule. If we receive no adverse comment, we will not take further action on this rule and it will go into effect. If we receive adverse comment, we will withdraw the direct final rule and it will not take effect. We will address all public comments in a subsequent final rule based on this proposed rule. We will not institute a second comment period on this action. Any parties interested in commenting must do so at this time.

DATES: Written comments must be received by September 28, 2009.

FOR FURTHER INFORMATION CONTACT: Mr. David Olson, Headquarters, Operations and Regulatory Community of Practice, Washington, DC at 202-761-4922 or Mr. John B. McFadyen, U.S. Army Corps of Engineers, Mobile District, at 251-690-3222.

SUPPLEMENTARY INFORMATION: This document concerns the “Disestablishment of Restricted Area for Pascagoula Naval Station, Pascagoula, MS” rule. For further information, including instructions on how to submit comments, please see the information provided in the direct final rule that is located in the “Rules and Regulations” section of this Federal Register publication.

Dated: August 14, 2009.
Michael G. Ensch,
Chief, Operations, Directorate of Civil Works.

[FR Doc. E9-20292 Filed 8-26-09; 8:45 am]

BILLING CODE 3710-92-P